INTERNATIONAL TRADE COMMISSION

[Investigations Nos. 701-TA-430A and 430B and 731-TA-1019A and 1019B (Final)]

Durum and Hard Red Spring Wheat From Canada

AGENCY: United States International Trade Commission.

ACTION: Revised schedule for the subject investigations.

EFFECTIVE DATE: June 19, 2003.

FOR FURTHER INFORMATION CONTACT: D.J. Na (202-708-4727), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS) at http://edis.usitc.gov.

SUPPLEMENTARY INFORMATION: On May 8, 2003, the Commission established a schedule for the conduct of the final phase of the subject investigations (68 FR 28253, May 23, 2003). Subsequently, the Department of Commerce extended the date for its final countervailing duty and antidumping determinations in the investigations from July 21, 2003, to August 28, 2003 (68 FR 35381, June 13, 2003). The Commission, therefore, is revising its schedule to conform with Commerce's new schedule.

The Commission's new schedule for the investigations is as follows: Requests to appear at the hearing must be filed with the Secretary to the Commission not later than August 28, 2003; the prehearing conference will be held at the U.S. International Trade Commission Building at 9:30 a.m. on September 2, 2003; the prehearing staff report will be placed in the nonpublic record on August 21, 2003; the deadline for filing prehearing briefs is August 28, 2003; the hearing will be held at the U.S. International Trade Commission Building at 9:30 a.m. on September 4, 2003; the deadline for filing posthearing briefs is September 11, 2003; the Commission will make its final release of information on September 26; and final party comments are due on September 30.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

Issued: June 24, 2003. By order of the Commission.
Marilyn R. Abbott,
Secretary to the Commission.

[FR Doc. 03-16363 Filed 6-26-03; 8:45 am]

BILLING CODE 7020-02-P